DEPARTMENT OF DEFENSE

Office of the Secretary

Meeting of the Historical Advisory Committee

AGENCY: Department of Defense.

ACTION: Notice of open meeting.

SUMMARY: In accordance with the provisions of the Federal Advisory Committee Act, this notice announces a meeting of the Department of Defense Historical Advisory Committee. The committee will discuss the Department of the Navy Historical Advisory Subcommittee's report and recommendations. The meeting will be open to the public.

DATES: Tuesday, October 16th, 2007 at 10 a.m.

ADDRESSES: The meeting will be held on the 5th Floor, Suite 5000, 1777 North Kent Street, Arlington, Virginia 22209.

FOR FURTHER INFORMATION CONTACT: Mrs. Pamela Bennett at 703-588-7889 or Ms. Carolyn Thorne at 703-588-7890 for information, and/or upon arrival at the building in order to be admitted.

Dated: September 20, 2007.
C.R. Choate,
Alternate OSD Federal Register Liaison Officer, Department of Defense.

[FR Doc. 07-4754 Filed 9-26-07; 8:45 am]

BILLING CODE 5001-06-M